DEPARTMENT OF THE INTERIOR

Bureau of Indian Affairs

[156A2100DD/AAKC001030/A0A501010.999900 253G]

Whether A Group Asserting Residency on the Pinoleville Rancheria Is Eligible To Organize as a Tribe Under the Indian Reorganization Act

AGENCY: Bureau of Indian Affairs, Interior.

ACTION: Notice of comment period.

SUMMARY: The Bureau of Indian Affairs (BIA) Pacific Regional Director has received a request for an administrative determination as to whether the requesting group of people is eligible to organize as a tribe under the Indian Reorganization Act (IRA). This notice is given to advise the public that BIA Pacific Regional Office will be accepting comments on this group's request and any other matter relevant to the Pacific Regional Director's determination.

DATES: Comments are due by within 60 days of this publication.

ADDRESSES: All interested parties are encouraged to submit comments by mail to: Pacific Regional Director, BIA, Attention: Tribal Government, 2800 Cottage Way, Room W-2820, Sacramento, CA 95825; by email to: PACIFIC_TRIBALGOV@bia.gov; or by fax to: (916) 978-6099.

FOR FURTHER INFORMATION CONTACT: Mr. Harley Long, Tribal Government Officer, Pacific Regional office, at (916) 978-6067.

SUPPLEMENTARY INFORMATION: The BIA Pacific Regional Director has received a request for an administrative determination as to whether the requesting group of people is eligible to organize as a tribe under IRA. The BIA will be accepting comments on this group's request and any other matter relevant to the Pacific Regional Director's determination, including comments regarding:

• Whether each member of the requesting group has 50 percent or greater Indian blood;

• Whether each member of the requesting group resides on the Pinoleville Rancheria;

• People residing on the Pinoleville Rancheria who meet any definition of “Indian” set out in the Indian Reorganization Act of 1934 (25 U.S.C. 479);

• Whether the Pinoleville Rancheria was set aside for the members of the requesting group, within the meaning of 25 CFR 81.2(w)(2), and;

• Whether the requesting group or some portion of it, is eligible to organize under 25 U.S.C. 476, 479 and 25 CFR 81.1(i), 81.1(w)(2).

This notice is published to comply with the requirements established in the Settlement Agreement in Donald Allen, et al. v. United States, Department of the Interior, N.D. Cal. No. 3:11-CV-5069, United States Court of Appeals for the Ninth Circuit No. 12-16573.

Dated: May 8, 2015.
Kevin K. Washburn,
Assistant Secretary—Indian Affairs.

[FR Doc. 2015-11626 Filed 5-11-15; 11:15 am]

BILLING CODE 4337-15-P